DEPARTMENT OF LABOR

Employment and Training Administration

[TA-W-40,204]

Fisher-Rosemount Systems, Inc., Emerson Process Management, Austin, Texas; Amended Certification Regarding Eligibility To Apply for Worker Adjustment Assistance

In accordance with section 223 of the Trade Act of 1974 (19 U.S.C. 2273) the U.S. Department Labor issued a Certification of Eligibility to Apply for Worker Adjustment Assistance on January 3, 2002, applicable to workers of Fisher-Rosemount, Austin, Texas. The notice was published in the Federal Register on January 11, 2002 (67 FR 1511).

At the request of the State agency, the Department reviewed the certification for workers of the subject firm. The workers assemble computer process control systems.

Company information shows that Emerson Process Management is the parent firm of Fisher-Rosemount Systems, Inc. located in Austin, Texas. Workers separations have occurred at Emerson Process Management. Those workers provide support services for the assembly of computer process control systems at Fisher Rosemount Systems's production facilities including the Austin, Texas location of the subject firm.

Accordingly, the Department is amending the certification to include workers of Emerson Process Management, Austin, Texas.

The intent of the Department's certification is to include all workers of Fisher-Rosemount who were adversely affected by increased imports.

The amended notice applicable to TA-W-40,204 is hereby issued as follows:

All workers of Fisher-Rosemount Systems, Inc., Emerson Process Management, Austin, Texas, engaged in employment related to the assembly of computer process control systems, who became totally or partially separated from employment on or after September 28, 2000, through January 3, 2004, are eligible to apply for adjustment assistance under Section 223 of the Trade Act of 1974.

Signed at Washington DC, this 10th day of February, 2003.
Linda G. Poole,
Certifying Officer, Division of Trade Adjustment Assistance.

[FR Doc. 03-13817 Filed 6-2-03; 8:45 am]

BILLING CODE 4510-30-P